DEPARTMENT OF STATE

[Public Notice 5075]

Bureau of Educational and Cultural Affairs (ECA) Request for Grant Proposals: Mexico City Educational Advising for U.S. Study and Administration of the Mexico, Central America, and the Caribbean (MCAC) Regional Educational Advising Coordinator (REAC) Program

Announcement Type: New Grant.

Funding Opportunity Number: ECA/A/S/A-06-02.

Catalog of Federal Domestic Assistance Number: 00.000.

Key Dates: Application Deadline: Friday, July 8, 2005.

Executive Summary: The Office of Global Educational Programs (ECA/A/S) of the Bureau of Educational and Cultural Affairs (ECA) announces an open competition for educational advising for U.S. study in Mexico City and for Regional Educational Advising Coordinator (REAC) services for Mexico, Central America, and the Caribbean (MCAC). Public and private non-profit organizations meeting the provisions described in Internal Revenue Code section 26 U.S.C. 501(c)(3) may submit proposals. The Mexico City educational advising center would be part of the worldwide network of over 450 Department of State-affiliated EducationUSA centers that provide comprehensive and unbiased information to interested students, scholars, and other members of the public and conduct outreach about accredited study opportunities in the U.S.

The REAC-hosting organization facilitates the Regional Coordinator's provision of expertise and information in consultation with U.S. embassies and ECA. The REAC supports the network of 51 active U.S. Department of State-affiliated EducationUSA centers in Mexico, Central America, and the Caribbean (MCAC) by sharing information, developing outreach modules and supporting educational advisers in promoting U.S. higher education among broad audiences, including indigenous and underserved populations, communicating trends in U.S. education and international/regional exchanges, disseminating the latest developments in educational technology, and providing direct guidance through site visits, internships, training, and workshops in the region.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: U.S. Department of State-affiliated EducationUSA advising centers guide students in their pursuit of educational opportunities in the United States and prepare them for direct exposure to American values, ideas, models, and traditions. They provide up-to-date, unbiased information on the range of accredited U.S. educational institutions and work to build mutual understanding between the United States and other countries through educational exchange.

Department of State-affiliated overseas EducationUSA advising services operate in nearly five hundred locations around the world. The size of the university population in Mexico and its proximity to the U.S. make it a critical location for educational advising for U.S. study. An EducationUSA center provides general information about academic opportunities in the U.S., offers group informational sessions and individual advising, and conducts outreach to local institutions. EducationUSA advising centers also provide accurate information and advising assistance on the following topics: the U.S. education system; U.S. colleges, universities, and other higher education institutions; the application process to a U.S. university; majors and fields of study; testing requirements; life in the U.S.; visa application procedures; scholarship programs and financial aid; and pre-departure orientation.

The Regional Educational Advising Coordinator (REAC) hosting organization will be responsible for providing on-site technical assistance and training to EducationUSA centers in the Mexico, Central America, and the Caribbean Region (MCAC) and for coordinating the establishment of any new EducationUSA centers, as directed by individual embassies in consultation with ECA/A/S/A. The REAC supports U.S. Department of State-affiliated EducationUSA centers located in the following countries and locations: Anguilla, Antigua, Aruba, Bahamas, Barbados, Belize, British Virgin Islands, Cayman Islands, Costa Rica, Cuba, Dominica, Dominican Republic, El Salvador, Grenada, Guatemala, Guyana, Haiti, Honduras, Jamaica, Martinique, Mexico, Montserrat, Nevis, Nicaragua, Panama, St. Kitts, St. Lucia, St. Vincent and the Grenadines, Suriname, and Trinidad and Tobago. The MCAC REAC organization should work impartially with all non-governmental organizations, binational centers (such as the Instituto Guatemalteco-Americano or Centro Cultural Costarricense-Norteamericano), Public Affairs Sections located in U.S. embassies, consulates at U.S. embassies, universities, community colleges, libraries, and other organizations involved in educational advising to enable advisers to provide accurate and timely information on U.S. higher educational opportunities. The REAC must work closely with ECA/A/S/A and with Public Affairs Sections throughout the region to help establish priorities for educational advising.

Advising Center Physical Description: The proposal should describe in detail the Mexico City EducationUSA center location, facilities (including size and capacity of public spaces), hours of operation, staffing pattern, (including percentage of time each employee will devote to advising activities, a description of each employee's function and responsibilities), a detailed budget, and a list of services provided by the center. Each month, the Mexico City center should be able to respond to over 4,000 information inquiries, including individual visits, telephone calls/faxes, and electronic communications. The proposal should also include a description of what methods the EducationUSA center and the grantee organization will pursue to supplement ECA funding of operating costs.

Advising Center Outreach: EducationUSA advising centers are encouraged to reach diverse audiences by organizing lectures and events outside the center. These outreach activities provide general information about study opportunities in the United States and about additional services and resources offered at the center. Proposals should include a detailed description and schedule of outreach activities for the grant year. Activities should focus primarily on reaching audiences in economically challenged areas of Mexico. The EducationUSA center in Mexico City will coordinate outreach to broad audiences, including indigenous and underserved areas in Mexico, Central America, and the Caribbean with other EducationUSA centers in the region should funds become available for this purpose in 2006.

The proposal should include information on the development and use of websites to support educational advising and the diffusion of information on U.S. study.

Advising Center Statistics: EducationUSA centers located in Mexico, Central America, and the Caribbean submit monthly statistics to the Mexico, Central America, and Caribbean (MCAC) Regional Educational Advising Coordinator (REAC) on the number of office visitors. The statistics track visitors to the center, phone calls, faxes, letters, e-mail, and Web site hits. Centers also respond to requests for statistical analysis and anecdotal information from the MCAC REAC and ECA's Educational Information and Resources Branch. The proposal should discuss how the EducationUSA center will meet this requirement. The proposal should also explain how the center would work with Public Affairs and Consular Affairs at the U.S. Embassy in Mexico City.

Advising Center Fund-raising/Cost Defrayment: The proposal should explain the measures taken by the EducationUSA center to generate income and reduce operating costs. U.S. Department of State-affiliated EducationUSA centers must provide a general introduction to U.S. studies and access to basic resources to all interested persons free of charge. To help cover operation costs, the center may charge a fee for specialized services (e.g., in-depth individual advising, workshops to prepare students for U.S. higher education study, or test preparation materials). Fees must be set at reasonable local standards to keep services affordable to the majority of the population. Further examples of cost-defrayment strategies include charging visitors for certification of education documents and charging for printing or photocopying. The proposal should clearly indicate the use planned for savings or income generated through these activities.

Advising Center Coordination/Communications: The Mexico City EducationUSA center should help coordinate major events, such as adviser training workshops and accredited U.S. college/university fairs. Coordination with other centers in the MCAC region, with Public Affairs offices in the region, and with COMEXUS (Fulbright Commission in Mexico) prevents duplication of efforts and assures U.S. college/university representatives of the opportunity to participate in multiple advising fairs on one trip to the area. All advising events supported by the advising center should be carried out under the banner of EducationUSA with the knowledge of the MCAC REAC.

The center participates in appropriate listservs and maintains contact with other centers in MCAC and in other regions. The center shares incidental educational research that may be of use to other centers.

Advising Center Professional Standards, Guidelines, and Development: Educational advisers follow the Standards of Ethical Conduct adopted by NAFSA: Association of International Educators. Every year, the Mexico City EducationUSA center will receive a collection of educational advising reference materials and announcements of training possibilities through ECA's Educational Information and Resources Branch.

MCAC REAC Responsibilities: The MCAC REAC works closely with the Mexico City EducationUSA center and

1. Plans and implements site visits to MCAC centers to provide training, to assess quality of center services and make recommendations for improvements, and to bestow candidate status for certification as a U.S. Department of State-affiliated EducationUSA center or to fully certify a center, depending on the center's self-assessment and compliance with U.S. Department of State-approved standards;

2. Coordinates the regional effort to reach wide audiences, including underserved and indigenous communities with information on U.S. study opportunities;

3. Offers research and guidance in response to specific questions related to educational advising, as requested by advising centers;

4. Produces and maintains regional newsletter, website, electronic bulletin board and/or other methods of sharing information among centers, and oversees the REAC-MCAC regional listserv;

5. Organizes and administers internship training programs for beginning and intermediate advisers to be held in one of the larger, well-staffed EducationUSA centers, as necessary;

6. Conducts in-country and sub-regional workshops as needed, as determined in consultation with ECA/A/S/A and Public Affairs Sections;

7. Consults with Public Affairs officers at U.S. embassies and ECA/A/S/A on the direction of and priorities for educational advising in the region;

8. Promotes the EducationUSA brand in conjunction with Public Affairs, Consular Affairs, Foreign Commercial Service, Fulbright Commissions and offices, and other international education entities in the region.

REAC Qualifications:

1. Fluent English and Spanish;

2. Knowledge of educational advising programs and centers;

3. Experience living and traveling in the region, and a demonstrated willingness and ability to undertake an ambitious travel schedule;

4. Knowledge of the system of higher education in the U.S., including such issues as accreditation, distance learning, the admissions process, standardized testing, and financial aid;

5. Organizational skills needed to administer both the internship programs and conferences;

6. Excellent time management skills, communication skills, and computer/Internet/listserv skills;

7. Experience in public speaking and in professional training activities;

8. U.S. Citizenship.

REAC Travel Plan: The coordinator plans an annual travel schedule in consultation with ECA/A/S/A (Educational Information and Resources Branch) and with EducationUSA centers and embassies to be visited, in order to conduct site visits consistent with ECA and Public Affairs Section priorities. The proposal should contain a tentative travel plan and should clearly delineate the ability of the organization to make reliable travel arrangements under adverse conditions as well as the willingness and ability of the REAC to undertake an active travel schedule.

REAC Host Support: The proposal should describe all members of the REAC organization's proposed program staff, clearly demonstrating appropriate expertise. The organization should explain in detail the provisions it will take to maintain communication among the REAC, the advising centers, and ECA/A/S/A.

II. Award Information

Type of Award: Grant Agreement.

Fiscal Year Funds: FY2006.

Approximate Total Funding: Pending availability, up to $215,000.

Approximate Number of Awards: One.

Approximate Average Award: up to $215,000.

Anticipated Award Date: Pending availability of funds, October 1, 2005.

Anticipated Project Completion Date: September 30, 2006.

Additional Information: Pending successful implementation of this program and the availability of funds in subsequent fiscal years, it is ECA's intent to renew this grant for two additional fiscal years, before openly competing it again.

The organization should prepare and submit two separate budgets, one for $135,000 and the second for $215,000 with budgeting for enhanced educational advising outreach to indigenous and underserved areas with REAC development of the outreach module and facilitation of small-scale adviser training in the region to conduct outreach.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Grants awarded to eligible organizations with less than four years of experience in conducting international exchange programs will be limited to $60,000. ECA anticipates awarding one grant, in an amount up to $215,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information to Request an Application Package

Please contact the Educational Information and Resources Branch, Global Educational Programs Office, Room 349, U.S. Department of State, SA-44, 301 4th Street, SW., Washington, DC 20547, telephone 202-619-4097, Fax 202-401-1433, frisbiejz@state.gov to request a Solicitation Package. Please refer to the Funding Opportunity Number ECA/A/S/A-06-02 located at the top of this announcement when making your request.

The Solicitation Package contains the Proposal Submission Instruction (PSI) document, which consists of required application forms, and standard guidelines for proposal preparation.

Please specify Bureau Program Officer Jean Frisbie and refer to the Funding Opportunity Number ECA/A/S/A-06-02 located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and five copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘ Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification. Applicants should submit two budgets and budget narratives; one for $135,000 for Mexico City educational advising and REAC hosting and a separate budget and budget narrative for $215,000 to show use of potential additional outreach and training funds described in I. Funding Opportunity Description, Advising Center Outreach, I. Funding Opportunity Description, MCAC REAC Responsibilities, and II. Award Information, Additional Information.

IV.3e.2. Allowable costs for the program include the following:

(1) Salary and benefits

(2) Budget for REAC travel and per diem

(3) Costs for training materials

(4) Costs for training events

(5) Office supplies and expenses

(6) Indirect costs

Please refer to the Solicitation Package for complete budget guidelines and formatting instructions.

IV.3f. Submission Dates and Times: Application Deadline Date: July 8, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and five copies of the application should be sent to:

U.S. Department of State, SA-44, Bureau of Educational and Cultural Affairs, Ref.: ECA/A/S/A-06-02, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. Applicants must also submit the “Executive Summary” and “Proposal Narrative” sections of the proposal in text (.txt) format on a PC-formatted disk. The Bureau will provide these files electronically to the appropriate Public Affairs Section(s) at the U.S. embassy(ies) for its (their) review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program planning/Ability to achieve program objectives: Detailed agenda and relevant work plan should demonstrate substantive undertakings and logistical capacity. Agenda and plan should adhere to the program overview and guidelines described above. Objectives should be reasonable, feasible, and flexible. Proposals should clearly demonstrate how the institution will meet the program's objectives and plan.

2. Support of Diversity: Proposals should demonstrate substantive support of the Bureau's policy on diversity. Achievable and relevant features should be cited in both program administration (selection of participants, program venue and program evaluation) and program content (orientation and wrap-up sessions, program meetings, resource materials and follow-up activities).

3. Institution's Record/Ability: Proposals should demonstrate an institutional record of successful exchange programs, including responsible fiscal management and full compliance with all reporting requirements for past Bureau grants as determined by Bureau Grants Staff. The Bureau will consider the past performance of prior recipients and the demonstrated potential of new applicants.

4. Follow-on Activities: Proposals should provide a plan for continued follow-on activity (without Bureau support) ensuring that Bureau supported programs are not isolated events.

5. Project Evaluation: Proposals should include a plan to evaluate the activity's success, both as the activities unfold and at the end of the program. A draft survey questionnaire or other technique plus description of a methodology to use to link outcomes to original project objectives is recommended.

6. Cost-effectiveness/Cost-sharing: The overhead and administrative components of the proposal, including salaries and honoraria, should be kept as low as possible. All other items should be necessary and appropriate. Proposals should maximize cost-sharing through other private sector support as well as institutional direct funding contributions.

7. Value to U.S.-Partner Country Relations: Proposed projects should receive positive assessments by the U.S. Department of State's geographic area desk and overseas officers of program need, potential impact, and significance in the partner country(ies).

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations Please reference the following Web sites for additional information: http://www.whitehouse.gov/omb/grants. http://exchanges.state.gov/education/grantsdiv/terms.htm#articleI.

VI.3. Reporting Requirements

You must provide ECA with a hard copy original plus two copies of the following reports:

A final program and financial report no more than 90 days after the expiration of the award;

REAC reports on visits to advising centers and on regional educational advising events to the Program Office (ECA/A/S/A) within three weeks of the visit or event.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Jean Frisbie, Educational Information and Resources Branch, ECA/A/S/A, Room 349, ECA/A/S/A-06-02, U.S. Department of State, SA-44, 301 4th Street, SW., Washington, DC 20547, telephone 202-619-5434, FAX 202-401-1433, frisbiejz@state.gov.

All correspondence with the Bureau concerning this RFGP should reference the above title and number ECA/A/S/A-06-02.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 5, 2005.
C. Miller Crouch,
Principal Deputy Assistant Secretary, Bureau of Educational and Cultural Affairs, Department of State.

[FR Doc. 05-9491 Filed 5-11-05; 8:45 am]

BILLING CODE 4710-05-P